DEPARTMENT OF HEALTH AND HUMAN SERVICES

Food and Drug Administration

The Ninth Annual Food and Drug Administration-Orange County Regulatory Affairs Educational Conference

AGENCY: Food and Drug Administration, HHS.

ACTION: Notice of meeting.

The Food and Drug Administration (FDA) is announcing the following conference: Ninth Annual Educational Conference cosponsored with the Orange County Regulatory Affairs Discussion Group (OCRA). The conference is intended to provide the drug, device, and biologics industries with an opportunity to interact with FDA reviewers and compliance officers from the centers and district offices, as well as other industry experts. The main focus of this interactive conference will be product approval, compliance, and risk management in the three medical product areas. Industry speakers, interactive question and answer, and workshop sessions will also be included to assure open exchange and dialogue on the relevant regulatory issues.

Date and Time: The conference will be held on May 23 and 24, 2006, from 7:30 a.m. to 5 p.m.

Location: The conference will be held at the Fairmont Newport Beach Hotel, 4500 MacArthur Blvd., Newport Beach, CA 92660.

Contact: Linda Hartley, Food and Drug Administration, 19701 Fairchild, Irvine, CA 92612, 949-608-4413, FAX: 949-608-4417, or OCRA, Attention to Detail (ATD), 5319 University Dr., suite 641, Irvine, CA 92612, 949-387-9046, FAX: 949-387-9047, Web site: www.ocra-dg.org.

Registration and Meeting Information: See OCRA Web site at www.ocra-dg.org. Contact ATD at 949-387-9046.

Before April 24, 2006, registrations fees are as follows: $525.00 for members, $575.00 for nonmembers, and $350.00 for FDA/government/full-time students with the proper identification. After April 24, 2006: $575.00 for members, $625.00 for nonmembers, and $350.00 for FDA/government/full-time students with the proper identification.

The registration fee will cover actual expenses including refreshments, lunch, materials, parking, and speaker expenses.

If you need special accommodations due to a disability, please contact Linda Hartley (see Contact) at least 10 days in advance of the meeting.

Dated: March 10, 2006.
Jeffrey Shuren,
Assistant Commissioner for Policy.

[FR Doc. E6-4092 Filed 3-21-06; 8:45 am]

BILLING CODE 4160-01-S